DEPARTMENT OF COMMERCE

National Oceanic and Atmospheric Administration

50 CFR Part 680

[Docket No. 060227052-6139-02; I.D. 021606B]

RIN 0648-AU06

Fisheries of the Exclusive Economic Zone Off Alaska; Allocating Bering Sea and Aleutian Islands King and Tanner Crab Fishery Resources

AGENCY: National Marine Fisheries Service (NMFS), National Oceanic and Atmospheric Administration (NOAA), Commerce.

ACTION: Final rule.

SUMMARY: NMFS issues a final rule implementing Amendment 20 to the Fishery Management Plan for Bering Sea/Aleutian Islands King and Tanner crabs (FMP). This action amends the Crab Rationalization Program (hereinafter referred to as the Program) to modify the allocation of harvesting shares and processing shares for Bering Sea Tanner crab Chionoecetes bairdi (Tanner crab) to allow this species to be managed as two separate stocks. This action is necessary to increase resource conservation and economic efficiency in the crab fisheries that are subject to the Program. This action is intended to promote the goals and objectives of the Magnuson-Stevens Fishery Conservation and Management Act (Magnuson-Stevens Act), the FMP, and other applicable law.

DATES: Effective on July 7, 2006.

ADDRESSES: Copies of Amendment 20, the Final Regulatory Flexibility Analysis (FRFA), and the Environmental Assessment (EA), Regulatory Impact Review (RIR), and Initial Regulatory Flexibility Analysis (IRFA) prepared for this action may be obtained from the NMFS Alaska Region, P.O. Box 21668, Juneau, AK 99802, Attn: Records Office, and on the Alaska Region, NMFS, website at http://www.fakr.noaa.gov/sustainablefisheries/crab/eis/default.htm.

FOR FURTHER INFORMATION CONTACT: Glenn Merrill, 907-586-7228 or glenn.merrill@noaa.gov.

SUPPLEMENTARY INFORMATION: The king and Tanner crab fisheries in the exclusive economic zone of the Bering Sea and Aleutian Islands (BSAI) are managed under the FMP. The FMP was prepared by the North Pacific Fishery Management Council (Council) under the Magnuson-Stevens Act as amended by the Consolidated Appropriations Act of 2004 (Public Law 108-199, section 801). Amendments 18 and 19 to the FMP to implement the Program. A final rule implementing these amendments was published on March 2, 2005 (70 FR 10174). NMFS also published three corrections to the final rule (70 FR 13097; March 18, 2005), (70 FR 33390; June 8, 2005) and (70 FR 75419; December 20, 2005).

In October 2005, the Council adopted Amendment 20 to the FMP. The Notice of Availability for Amendment 20 was published in the Federal Register on February 27, 2006 (71 FR 9770). NMFS approved Amendment 20 on May 25, 2006.

NMFS published a proposed rule to implement Amendment 20 in the Federal Register on March 21, 2006 (71 FR 14153). Public comments on the proposed rule were solicited through May 5, 2006. No public comments were received and therefore, no changes were made from the proposed to final rule.

A description of this action is provided in the preamble to the proposed rule (March 21, 2006, 71 FR 14153) and is briefly summarized here. Under the Program, harvester quota share (QS), processor quota share (PQS), individual fishing quota (IFQ), and individual processing quota (IPQ) currently are issued for one Tanner crab fishery. The State of Alaska (State), however, has determined that eastern Bering Sea Tanner crab should be separated into two stocks and managed as two separate fisheries to avoid localized depletion by the commercial fishery, particularly of legal-sized males in the Pribilof Islands area. The Program and the final rule implementing it allocated shares of the Tanner crab fishery in the Bering Sea, but did not separately distinguish the management of these two stocks.

Amendment 20 to the FMP modifies the allocation of harvesting shares and processing shares for Bering Sea Tanner crab to accommodate management of geographically separate Tanner crab fisheries. This action allocates QS and PQS and the resulting IFQ and IPQ for two Tanner crab fisheries, one east of 166° W. longitude and the other west of 166° W. longitude. Revision of the QS and PQS allocations resolves the current inconsistency between current allocations and management of the Tanner crab species as two stocks. This change will reduce administrative costs for managers and the operational costs of harvesters and processors while increasing their flexibility.

This action does not alter the basic structure or management of the Program. Reporting, monitoring, fee collection, and other requirements to participate in the Tanner crab fishery are unchanged. This action does not increase the number of harvesters or processors in the Tanner crab fisheries or the amount of crab that may be harvested currently. This action does not affect regional delivery requirements or other restrictions on harvesting and processing Tanner crab that currently apply.

NMFS will reissue Tanner crab QS and PQS. Currently, Tanner crab is issued as Bering Sea Tanner (BST) QS and BST PQS. For each share of BST QS held, a person will be issued one share of eastern Bering Sea Tanner crab (EBT) QS, and one share of western Bering Sea Tanner crab (WBT) QS. Similarly, for each BST PQS held, a person will be issued one share of EBT PQS, and one share of WBT PQS. EBT QS and PQS would result in IFQ and IPQ that could be used for the Tanner crab fishery occurring east of 166° W. longitude; WBT QS and PQS would result in IFQ and IPQ that could be used for the Tanner crab fishery occurring west of 166° W. longitude. This reissuance of Tanner crab QS and PQS will not increase the number of initially issued Tanner crab quota holders. Tanner crab QS and PQS holders will receive IFQ and IPQ in a specific fishery only if that specific Tanner crab fishery has a harvestable surplus and a total allowable catch (TAC) assigned by the State.

NMFS will reissue Tanner crab QS and PQS after the end of the current Tanner crab fishing season (March 31, 2006), and prior to the date when the State announces the TACs for the 2006/2007 crab fishing seasons (October 1, 2006). This will reduce any potential conflict with the current Tanner crab fishery.

Classification

The Regional Administrator determined that Amendment 20 is necessary for the conservation and management of the Bering Sea crab fisheries and that it is consistent with the Magnuson-Stevens Act and other applicable laws.

NMFS prepared an FRFA which incorporates the IRFA, a summary of the analyses completed to support the action, and public comments received on the IRFA. A copy of this analysis is available from NMFS (see ADDRESSES). The following summarizes the FRFA.

The FRFA evaluates the impacts of this rule. The FRFA addresses the statutory requirements of the Regulatory Flexibility Act (RFA) of 1980, as amended by the Small Business Regulatory Enforcement Fairness Act (SBREFA) of 1996 (5 U.S.C. 601-612). It specifically addresses the requirements at section 604(a).

Issues Raised by Public Comments on the IRFA

The proposed rule was published in the Federal Register on March 21, 2006 (71 FR 14153). An IRFA was prepared for the proposed rule, and described in the classifications section of the preamble to the rule. The public comment period ended on May 5, 2006. No public comment were received on the IRFA. No changes were made to the final rule from the proposed rule.

Need for and Objectives of This Action

The reasons for this action and the objectives and legal basis for the rule are discussed in the preamble to this rule and are not repeated here.

Number and Description of Small Entities Affected by the Rule

The FRFA contains a description and estimate of the number of directly affected small entities. Estimates of the number of small harvesting entities under the Program are complicated by several factors. Each eligible captain will receive an allocation of QS under the Program. A total of 186 captains received allocations of Tanner crab QS for the 2005-2006 fishery. In addition, 269 allocations of QS to Limited License Program (LLP) license holders were made under the Program, for a total of 455 QS allocations in the Tanner crab fisheries. Because some persons participated as LLP holders and captains and others received allocations from the activities of multiple vessels, only 294 unique persons received QS. Of those entities receiving QS, 287 are small entities because they either generated $4.0 million or less in gross revenue, or they are independent entities not affiliated with a processor. Estimates of gross revenues for purposes of determining the number of small entities relied on the low estimates of prices from the arbitration reports based on the 2005/2006 fishing season.

Allocations of Tanner crab PQS under the Program were made to 20 processors. Of these PQS recipients, nine are estimated to be large entities, and 11 are small entities. Estimates of large entities were made based on available records of employment and the analysts' knowledge of foreign ownership of processing companies. These totals exclude catcher/processors, which are included in the LLP holder discussion.

Recordkeeping and Reporting Requirements

The reporting, recordkeeping, and other compliance requirements of the final rule will not change from those of the Program with respect to QS, IFQ, PQS, and IPQ. As such, this action requires no additional reporting, recordkeeping, or other compliance requirements.

Description of Significant Alternatives and Description of Steps Taken to Minimize the Significant Economic Impacts on Small Entities

The EA/RIR/FRFA prepared for this action analyzed a suite of three alternatives for harvesters, and a separate suite of three alternatives for processors. Alternative 1 for harvesters and processors, the no action alternative, would maintain the existing inconsistency between Federal allocations supporting a single Tanner crab fishery and State management of two stocks of Tanner crab. For harvesters, the difference in effects of the revised allocation alternatives on the social and economic environment is primarily distributional. Under the preferred harvester alternative (Alternative 2), an eligible participant receives an allocation in both fisheries based on all qualifying catches regardless of where that catch occurred. Under harvester Alternative 3, a harvester would receive an allocation in each fishery based on historic catch from the area of the fishery. Under this alternative, a person's allocation would be skewed toward the area in which the person had greater catch relative to other participants.

For processors, the choice of revised allocation alternatives would have operational and efficiency effects. Under the preferred processor alternative (Alternative 2), PQS and IPQ pools are created for the two fisheries. Share holders can trade shares in the fisheries independently to establish long-term relationships in each fishery. Under processor Alternative 3, PQS would generate an annual allocation of IPQ that could be used in either fishery. Since TACs in the fisheries may fluctuate independently, harvesters that do not hold equal percentages of the pools in both fisheries will be unable to establish fixed long-term relationships with a processor for all their shares. Instead, these participants would need to modify their relationships if TACs change independently in the different Tanner crab fisheries. This restructuring of relationships could reduce efficiency in the Tanner crab fisheries by adding to transaction costs of participants.

Although the different allocations under consideration in this action would have distributional and efficiency impacts for individual participants, in no case are these aggregated impacts expected to be substantial. In all instances, similar numbers of participants would receive allocations.

Alternative 1 for harvesters would create inefficiencies for harvesters by failing to provide a mechanism to ensure that quota is managed for each stock separately in accordance with biomass distribution. Preferred Alternative 2 provides additional flexibility to industry participants to hold quota to fish specific Tanner crab fisheries and reduce potential conflicts among participants that may occur if one quota is used to provide harvesting privileges to two distinct stocks. Alternative 3 would skew the allocation of a harvesters QS to a specific region based on historic catch that may not be reflective of current fishing practices, and could result in increased transaction costs for harvesters to transfer QS or IFQ to fit their current fishing practices.

Alternative 1 for processors would fail to provide an opportunity for processors to establish long term relationships with specific harvesters for specific Tanner crab deliveries. This could increase operational costs. Although none of the alternatives has substantial negative impacts on small entities, preferred Alternative 2 for processors minimizes the potential negative impacts that could arise under Alternatives 1 and 3 for processors by increasing their ability to establish fixed long-term relationships with a harvester for delivery of their IFQ.

Differences in efficiency that could arise among the harvester and processor alternatives are likely to affect most participants in a minor way having an overall insubstantial impact. As a consequence, none of the alternatives is expected to have any significant economic or socioeconomic impacts.

This final rule has been determined to be not significant for purposes of Executive Order 12866.

Small Entity Compliance Guide

NMFS has posted a small entity compliance guide on the Internet at http://www.fakr.noaa.gov/sustainablefisheries/crab/crfaq.htm to satisfy the Small Business Regulatory Enforcement Fairness Act of 1996, which requires a plain language guide to assist small entities in complying with this rule. Contact NMFS to request a hard copy of the guide (see ADDRESSES).

List of Subjects in 50 CFR Part 680

Alaska, Fisheries, Reporting and recordkeeping requirements.

Dated: June 1, 2006.
James W. Balsiger,
Acting Deputy Assistant Administrator for Regulatory Programs, National Marine Fisheries Service.

For the reasons set out in the preamble, 50 CFR part 680 is amended as follows:

PART 680—SHELLFISH FISHERIES OF THE EXCLUSIVE ECONOMIC ZONE OFF ALASKA

1. The authority citation for part 680 continues to read as follows:

Authority: 16 U.S.C. 1862.

2. In § 680.4, revise paragraphs (b) and (c) to read as follows:

§ 680.4 Permits.

(b) Crab QS permit. (1) Crab QS is issued by the Regional Administrator to persons who successfully apply for an initial allocation under § 680.40 or receive QS by transfer under § 680.41. Once issued, a crab QS permit is valid until modified under paragraph (b)(2) of this section, or by transfer under § 680.41; or until the permit is revoked, suspended, or modified pursuant to § 679.43 of this chapter or under 15 CFR part 904. To qualify for a crab QS permit, the applicant must be a U.S. Citizen.

(2) Each unit of Crab QS initially issued under § 680.40 for the Bering Sea Tanner crab (Chionoecetes bairdi) CR fishery shall be reissued as one unit of Eastern Bering Sea Tanner crab (EBT) QS and one unit of Western Bering Sea Tanner crab (WBT) QS.

(c) Crab PQS permit. (1) Crab PQS is issued by the Regional Administrator to persons who successfully apply for an initial allocation under § 680.40 or receive PQS by transfer under § 680.41. Once issued, a crab PQS permit is valid until modified under paragraph (c)(2) of this section, or by transfer under § 680.41; or until the permit is revoked, suspended, or modified pursuant to § 679.43 of this chapter or under 15 CFR part 904.

(2) Each unit of Crab PQS initially issued under § 680.40 for the Bering Sea Tanner crab (Chionoecetes bairdi) CR fishery shall be reissued as one unit of Eastern Bering Sea Tanner crab (EBT) PQS and one unit of Western Bering Sea Tanner crab (WBT) PQS.

§§ 680.40 and 680.41 [Amended]

3. In the table below, at each of the locations shown in the “LOCATION” column, remove the phrase indicated in the “REMOVE” column and replace it with the phrase indicated in the “ADD” column:

LOCATION | REMOVE | ADD
§ 680.40(b)(2)(ii)(A) | BST | EBT or WBT
§ 680.40(d)(2)(iv)(B) | BST | EBT or WBT
§ 680.41(l)(1)(i) | BST | EBT, WBT,

4. In § 680.40, revise paragraph (b)(2)(iii) to read as follows:

§ 680.40 Quota Share (QS), Processor QS (PQS), Individual Fishing Quota (IFQ), and Individual Processor Quota (IPQ) issuance.

* * * * *

(b) * * *

(2) * * *

(iii) The regional designations that apply to each of the crab QS fisheries are specified in the following table:

Crab QS Fishery | North Region | South Region | West Region | Undesignated Region
(A) EAG | X | X |  |
(B) WAG |  |  | X | X
(C) EBT |  |  |  | X
(D) WBT |  |  |  | X
(E) BSS | X | X |  |
(F) BBR | X | X |  |
(G) PIK | X | X |  |
(H) SMB | X | X |  |
(I) WAI |  | X |  |

* * * * *

5. In § 680.42, revise paragraph (a)(2)(i), (a)(3)(i), (a)(4)(i), and (c)(1) to read as follows:

§ 680.42 Limitations on use of QS, PQS, IFQ and IPQ.

(a) * * *

(2) * * *

(i) Hold QS in amounts in excess of the amounts specified in the following table, unless that person's QS was received in the initial allocation:

Fishery | CVO/CPO Use Cap in QS Units | CVC/CPC Use Cap in QS Units
(A) Percent of the initial QS pool for BBR | 1.0% = 3,880,000 | 2.0% = 240,000
(B) Percent of the initial QS pool for BSS | 1.0% = 9,700,000 | 2.0% = 600,000
(C) Percent of the initial QS pool for EBT | 1.0% = 1,940,000 | 2.0% = 120,000
(D) Percent of the initial QS pool for WBT | 1.0% = 1,940,000 | 2.0% = 120,000
(E) Percent of the initial QS pool for PIK | 2.0% = 582,000 | 4.0% = 36,000
(F) Percent of the initial QS pool for SMB | 2.0% = 582,000 | 4.0% = 36,000
(G) Percent of the initial QS pool for EAG | 10.0% = 970,000 | 20.0% = 60,000
(H) Percent of the initial QS pool for WAG | 10.0% = 3,880,000 | 20.0% = 240,000
(I) Percent of the initial QS pool for WAI | 10.0% = 5,820,000 | 20.0% = 360,000

* * * * *

(3) * * *

(i) Hold QS in excess of more than the amounts of QS specified in the following table:

Fishery | CDQ CVO/CPO Use Cap in QS Units
(A) 5.0 percent of the initial QS pool for BBR | 19,400,000
(B) 5.0 percent of the initial QS pool for BSS | 48,500,000
(C) 5.0 percent of the initial QS pool for EBT | 9,700,000
(D) 5.0 percent of the initial QS pool for WBT | 9,700,000
(E) 10.0 percent of the initial QS pool for PIK | 2,910,000
(F) 10.0 percent of the initial QS pool for SMB | 2,910,000
(G) 20.0 percent of the initial QS pool for EAG | 1,940,000
(H) 20.0 percent of the initial QS pool for WAG | 7,760,000
(I) 20.0 percent of the initial QS pool for WAI | 11,640,000

* * * * *

(4) * * *

(i) Hold QS in excess of the amounts specified in the following table:

Fishery | CVO/CPO Use Cap in QS Units
(A) 5.0 percent of the initial QS pool for BBR | 19,400,000
(B) 5.0 percent of the initial QS pool for BSS | 48,500,000
(C) 5.0 percent of the initial QS pool for EBT | 9,700,000
(D) 5.0 percent of the initial QS pool for WBT | 9,700,000
(E) 5.0 percent of the initial QS pool for PIK | 1,455,000
(F) 5.0 percent of the initial QS pool for SMB | 1,455,000
(G) 5.0 percent of the initial QS pool for EAG | 485,000
(H) 5.0 percent of the initial QS pool for WAG | 1,940,000
(I) 5.0 percent of the initial QS pool for WAI | 2,910,000

* * * * *

(c) * * *

(1) Except for vessels that participate solely in a crab harvesting cooperative as described under § 680.21 and under the provisions described in paragraph (c)(4) of this section, no vessel may be used to harvest CVO or CPO IFQ in excess of the following percentages of the TAC for that crab QS fishery for that crab fishing year:

(i) 2.0 percent for BSS;

(ii) 2.0 percent for BBR;

(iii) 2.0 percent for EBT;

(iv) 2.0 percent for WBT;

(v) 4.0 percent for PIK;

(vi) 4.0 percent for SMB;

(vii) 20.0 percent for EAG;

(viii) 20.0 percent for WAG; or

(ix) 20.0 percent for the WAI crab QS fishery west of 179° W. long.

* * * * *

6. Revise Table 1, to part 680 to read as follows:

Table 1 to Part 680—Crab Rationalization (CR) Fisheries
Fishery Code | CR Fishery | Geographic Area
BBR | Bristol Bay red king crab (Paralithodes camtshaticus) | In waters of the EEZ with: (1) A northern boundary of 58°30′ N. lat., (2) A southern boundary of 54°36′ N. lat., and (3) A western boundary of 168° W. long. and including all waters of Bristol Bay.
BSS | Bering Sea Snow crab (Chionoecetes opilio) | In waters of the EEZ with: (1) A northern and western boundary of the Maritime Boundary Agreement Line as that line is described in the text of and depicted in the annex to the Maritime Boundary Agreement between the United States and the Union of Soviet Socialist Republics signed in Washington, June 1, 1990, and as the Maritime Boundary Agreement Line as depicted on NOAA Chart No. 513 (6th edition, February 23, 1991) and NOAA Chart No. 514 (6th edition, February 16, 1991), and (2) A southern boundary of 54°30′ N. lat. to 171° W. long., and then south to 54°36′ N. lat.
EAG | Eastern Aleutian Islands golden king crab (Lithodes aequispinus) | In waters of the EEZ with: (1) An eastern boundary the longitude of Scotch Cap Light (164°44′ W. long.) to 53°30′ N. lat., then West to 165° W. long., (2) A western boundary of 174° W. long., and (3) A northern boundary of a line from the latitude of Cape Sarichef (54°36′ N. lat.) westward to 171° W. long., then north to 55°30′ N. lat., then west to 174° W. long.
EBT | Eastern Bering Sea Tanner crab (Chionoecetes bairdi) | In waters of the EEZ with: (1) A western boundary the longitude of 166° W. long., (2) A northern boundary of the Maritime Boundary Agreement Line as that line is described in the text of and depicted in the annex to the Maritime Boundary Agreement between the United States and the Union of Soviet Socialist Republics signed in Washington, June 1, 1990, and as the Maritime Boundary Agreement Line as depicted on NOAA Chart No. 513 (6th edition, February 23, 1991) and NOAA Chart No. 514 (6th edition, February 16, 1991), and (3) A southern boundary of 54°30'N. lat.
PIK | Pribilof red king and blue king crab (Paralithodes camtshaticus and P. platypus) | In waters of the EEZ with: (1) A northern boundary of 58°30′ N. lat., (2) An eastern boundary of 168° W. long., and (3) A southern boundary line from 54°36′ N. lat., 168° W. long., to 54°36′ N. lat., 171° W. long., to 55°30′ N. lat., 171° W. long., to 55°30′ N. lat., 173°30′ E. lat., and then westward to the Maritime Boundary Agreement Line as that line is described in the text of and depicted in the annex to the Maritime Boundary Agreement between the United States and the Union of Soviet Socialist Republics signed in Washington, June 1, 1990, and as the Maritime Boundary Agreement Line as depicted on NOAA Chart No. 513 (6th edition, February 23, 1991) and NOAA Chart No. 514 (6th edition, February 16, 1991).
SMB | St. Matthew blue king crab (Paralithodes platypus) | In waters of the EEZ with: (1) A northern boundary of 62° N. lat., (2) A southern boundary of 58°30′ N. lat., and (3) A western boundary of the Maritime Boundary Agreement Line as that line is described in the text of and depicted in the annex to the Maritime Boundary Agreement between the United States and the Union of Soviet Socialist Republics signed in Washington, June 1, 1990, and as the Maritime Boundary Agreement Line as depicted on NOAA Chart No. 513 (6th edition, February 23, 1991) and NOAA Chart No. 514 (6th edition, February 16, 1991).
WAG | Western Aleutian Islands golden king crab (Lithodes aequispinus) | In waters of the EEZ with: (1) An eastern boundary the longitude 174° W. long., (2) A western boundary the Maritime Boundary Agreement Line as that line is described in the text of and depicted in the annex to the Maritime Boundary Agreement between the United States and the Union of Soviet Socialist Republics signed in Washington, June 1, 1990, and as the Maritime Boundary Agreement Line as depicted on NOAA Chart No. 513 (6th edition, February 23, 1991) and NOAA Chart No. 514 (6th edition, February 16, 1991), and (3) A northern boundary of a line from the latitude of 55°30′ N. lat., then west to the U.S.-Russian Convention line of 1867.
WAI | Western Aleutian Islands red king crab (Paralithodes camtshaticus) | In waters of the EEZ with: (1) An eastern boundary the longitude 179° W. long., (2) A western boundary of the Maritime Boundary Agreement Line as that line is described in the text of and depicted in the annex to the Maritime Boundary Agreement between the United States and the Union of Soviet Socialist Republics signed in Washington, June 1, 1990, and as the Maritime Boundary Agreement Line as depicted on NOAA Chart No. 513 (6th edition, February 23, 1991) and NOAA Chart No. 514 (6th edition, February 16, 1991), and (3) A northern boundary of a line from the latitude of 55°30′ N. lat., then west to the Maritime Boundary Agreement Line as that line is described in the text of and depicted in the annex to the Maritime Boundary Agreement between the United States and the Union of Soviet Socialist Republics signed in Washington, June 1, 1990, and as the Maritime Boundary Agreement Line as depicted on NOAA Chart No. 513 (6th edition, February 23, 1991) and NOAA Chart No. 514 (6th edition, February 16, 1991).
WBT | Western Bering Sea Tanner crab (Chionoecetes bairdi) | In waters of the EEZ with: (1) An eastern boundary the longitude of 166° W. long., (2) A northern and western boundary of the Maritime Boundary Agreement Line as that line is described in the text of and depicted in the annex to the Maritime Boundary Agreement between the United States and the Union of Soviet Socialist Republics signed in Washington, June 1, 1990, and as the Maritime Boundary Agreement Line as depicted on NOAA Chart No. 513 (6th edition, February 23, 1991) and NOAA Chart No. 514 (6th edition, February 16, 1991), and (3) A southern boundary of 54°30′ N. lat. to 171° W. long., and then south to 54°36′ N. lat.

* * * * *

7. Revise Tables 7,8, and 9 to part 680 to read as follows:

Table 7 to Part 680—Initial Issuance of Crab QS by Crab QS Fishery
Column A: Crab QS Fisheries | Column B: Qualifying Years for QS | Column C: Eligibility Years for CVC and CPC QS | Column D: Recent Participation Seasons for CVC and CPC QS | Column E: Subset of Qualifying Years
For each crab QS fishery the Regional Administrator shall calculate (see § 680.40(c)(2): | QS for any qualified person based on that person's total legal landings of crab in each of the crab QS fisheries for any: | In addition, each person receiving CVC and CPC QS must have made at least one landing per year, as recorded on a State of Alaska fish ticket, in any three years during the base period described below: | In addition, each person receiving CVC or CPC QS, must have made at least one landing, as recorded on a State of Alaska fish ticket, in at least 2 of the last 3 fishing seasons in each of the crab QS fisheries as those seasons are described below: | The maximum number of qualifying years that can be used to calculate QS for each QS fishery is:
1. Bristol Bay red king crab (BBR) | 4 years of the 5-year QS base period beginning on: (1) November 1-5, 1996; (2) November 1-5, 1997; (3) November 1-6, 1998; (4) October 15-20, 1999; (5) October 16-20, 2000. | 3 years of the 5-year QS base period beginning on: (1) November 1-5, 1996; (2) November 1-5, 1997; (3) November 1-6, 1998; (4) October 15-20, 1999; (5) October 16-20, 2000. | (1) October 15-20, 1999. (2) October 16-20, 2000. (3) October 15-18, 2001. | 4 years
2. Bering Sea snow crab (BSS) | 4 years of the 5-year period beginning on: (1) January 15, 1996 through February 29, 1996; (2) January 15, 1997 through March 21, 1997; (3) January 15, 1998 through March 20, 1998; (4) January 15, 1999 through March 22, 1999; (5) April 1-8, 2000. | 3 years of the 5-year period beginning on: (1) January 15, 1996 through February 29, 1996; (2) January 15, 1997 through March 21, 1997; (3) January 15, 1998 through March 20, 1998; (4) January 15, 1999 through March 22, 1999; (5) April 1-8, 2000. | (1) April 1-8, 2000. (2) January 15, 2001 through February 14, 2001. (3) January 15, 2002 through February 8, 2002. | 4 years
3. Eastern Aleutian Islands golden king crab (EAG) | 5 years of the 5-year base period beginning on: (1) September 1, 1996 through December 25, 1996; (2) September 1, 1997 though November 24, 1997; (3) September 1, 1998 through November 7, 1998; (4) September 1, 1999 through October 25, 1999; (5) August 15, 2000 through September 24, 2000. | 3 years of the 5-year base period beginning on: (1) September 1, 1996 through December 25, 1996; (2) September 1, 1997 though November 24, 1997; (3) September 1, 1998 through November 7, 1998; (4) September 1, 1999 through October 25, 1999; (5) August 15, 2000 through September 25, 2000. | (1) September 1 1999 through October 25, 1999. (2) August 15, 2000 through September 24, 2000. (3) August 15, 2001 through September 10, 2001. | 5 years
4. Eastern Bering Sea Tanner crab (EBT) | 4 of the 6 seasons beginning on: (1) November 15, 1991 through March 31, 1992; (2) November 15, 1992 through March 31, 1993; (3) November 1-10, 1993, and November 20, 1993 through January 1, 1994; (4) November 1-21, 1994; (5) November 1-16, 1995; (6) November 1-5, 1996 and November 15-27, 1996. | 3 of the 6 seasons beginning on: (1) November 15, 1991 through March 31, 1992; (2) November 15, 1992 through March 31, 1993; (3) November 1-10, 1993, and November 20, 1993 through January 1, 1994; (4) November 1-21, 1994; (5) November 1-16, 1995; (6) November 1-5, 1996 and November 15-27, 1996. | In any 2 of the last 3 seasons prior to June 10, 2002 in the Eastern Aleutian Island golden (brown) king crab, Western Aleutian Island golden (brown) king crab, Bering Sea snow crab, or Bristol Bay red king crab fisheries. | 4 years
5. Pribilof red king and blue king crab (PIK) | 4 years of the 5-year period beginning on: (1) September 15-21, 1994; (2) September 15-22, 1995; (3) September 15-26, 1996; (4) September 15-29, 1997; (5) September 1-28, 1998. | 3 years of the 5-year period beginning on: (1) September 15-21, 1994; (2) September 15-22, 1995; (3) September 15-26, 1996; (4) September 15-29, 1997; (5) September 15-28, 1998. | In any 2 of the last 3 seasons prior to June 10, 2002 in the Eastern Aleutian Island golden (brown) king crab, Western Aleutian Island golden (brown) king crab, Bering Sea snow crab, or Bristol Bay red king crab fisheries, except that persons applying for an allocation to receive QS based on legal landings made aboard a vessel less than 60 feet (18.3 m) LOA at the time of harvest are exempt from this requirement. | 4 years
6. St. Matthew blue king crab (SMB) | 4 years of the 5-year period beginning on: (1) September 15-22, 1994; (2) September 15-20, 1995; (3) September 15-23, 1996; (4) September 15-22, 1997; (5) September 15-26, 1998. | 3 years of the 5-year period beginning on: (1) September 15-22, 1994; (2) September 15-20, 1995; (3) September 15-23, 1996; (4) September 15-22, 1997; and (5) September 15-26, 1998. | In any 2 of the last 3 seasons prior to June 10, 2002 in the Eastern Aleutian Island golden (brown) king crab, Western Aleutian Island golden (brown) king crab, Bering Sea snow crab, or Bristol Bay red king crab fisheries. | 4 years
7. Western Aleutian Islands brown king crab (WAG) | 5 of the 5 seasons beginning on: (1) September 1, 1996 through August 31, 1997; (2) September 1, 1997 though August 21, 1998; (3) September 1, 1998 through August 31, 1999; (4) September 1, 1999 through August 14, 2000; (5) August 15, 2000 through March 28, 2001. | 3 of the 5 seasons beginning on: (1) September 1, 1996 through August 31, 1997; (2) September 1, 1997 though August 31, 1998; (3) September 1, 1998 through August 31, 1999; (4) September 1, 1999 through August 14, 2000; (5) August 15, 2000 through March 28, 2001. | (1) September 1, 1999 through August 14, 2000. (2) August 15, 2000 through March 28, 2001. (3) August 15 2001 through March 30, 2002. | 5 years
8. Western Aleutian Islands red king crab (WAI) | 3 of the 4 seasons beginning on: (1) November 1, 1992 through January 15, 1993; (2) November 1, 1993 through February 15, 1994; (3) November 1-28, 1994; (4) November 1, 1995 through February 13, 1996. | 3 of the 4 seasons beginning on: (1) November 1, 1992 through January 15, 1993; (2) November 1, 1993 through February 15, 1994; (3) November 1-28, 1994; (4) November 1, 1995 through February 13, 1996. | In any 2 of the last 3 seasons prior to June 10, 2002 in the Eastern Aleutian Island golden (brown) king crab, Western Aleutian Island golden (brown) king crab, Bering Sea snow crab, or Bristol Bay red king crab fisheries. | 3 years
9. Western Bering Sea Tanner crab (WBT) | 4 of the 6 seasons beginning on: (1) November 15, 1991 through March 31, 1992; (2) November 15, 1992 through March 31, 1993; (3) November 1-10, 1993, and November 20, 1993 through January 1, 1994; (4) November 1-21, 1994; (5) November 1-16, 1995; (6) November 1-5, 1996 and November 15-27, 1996. | 3 of the 6 seasons beginning on: (1) November 15, 1991 through March 31, 1992; (2) November 15, 1992 through March 31, 1993; (3) November 1-10, 1993, and November 20, 1993 through January 1, 1994; (4) November 1-21, 1994; (5) November 1-16, 1995; (6) November 1-5, 1996 and November 15-27, 1996. | In any 2 of the last 3 seasons prior to June 10, 2002 in the Eastern Aleutian Island golden (brown) king crab, Western Aleutian Island golden (brown) king crab, Bering Sea snow crab, or Bristol Bay red king crab fisheries. | 4 years

Table 8 to Part 680—Initial QS and PQS Pool for Each Crab QS Fishery
Crab QS Fishery | Initial QS Pool | Initial PQS Pool
BBR - Bristol Bay red king crab | 400,000,000 | 400,000,000
BSS - Bering Sea snow crab (C. opilio) | 1,000,000,000 | 1,000,000,000
EAG - Eastern Aleutian Islands golden king crab | 10,000,000 | 10,000,000
EBT - Eastern Bering Sea Tanner crab (C. bairdi) | 200,000,000 | 200,000,000
PIK - Pribilof Islands red and blue king crab | 30,000,000 | 30,000,000
SMB - St. Matthew blue king crab | 30,000,000 | 30,000,000
WAG - Western Aleutian Islands golden king crab | 40,000,000 | 40,000,000
WAI - Western Aleutian Islands red king crab | 60,000,000 | 60,000,000
WBT - Western Bering Sea Tanner crab (C. bairdi) | 200,000,000 | 200,000,000

Table 9 to Part 680—Initial Issuance of Crab PQS by Crab QS Fishery
Column A: For each crab QS fishery: | Column B: The Regional Administrator shall calculate PQS for any qualified person based on that person's total legal purchase of crab in each of the crab QS fisheries for any...
Bristol Bay red king crab (BBR) | 3 years of the 3-year QS base period beginning on: (1) November 1-5, 1997; (2) November 1-6, 1998; and (3) October 15-20, 1999.
Bering Sea snow crab (BSS) | 3 years of the 3-year period beginning on: (1) January 15, 1997 through March 21, 1997; (2) January 15, 1998 through March 20, 1998; and (3) January 15, 1999 through March 22, 1999.
Eastern Aleutian Island golden king crab (EAG) | 4 years of the 4-year base period beginning on: (1) September 1, 1996 through December 25, 1996; (2) September 1, 1997 though November 24, 1997; (3) September 1, 1998 through November 7, 1998; and (4) September 1, 1999 through October 25, 1999.
Eastern Bering Sea Tanner crab (EBT) | Equivalent to 50 percent of the total legally processed crab in the Bering Sea snow crab fishery during the qualifying years established for that fishery, and 50 percent of the total legally processed crab in the Bristol Bay red king crab fishery during the qualifying years established for that fishery.
Pribilof Islands red and blue king crab (PIK) | 3 years of the 3-year period beginning on: (1) September 15-26, 1996; (2) September 15-29, 1997; and (3) September 15-28, 1998.
St. Matthew blue king crab (SMB) | 3 years of the 3-year period beginning on: (1) September 15-23, 1996; (2) September 15-22, 1997; and (3) September 15-26, 1998.
Western Aleutian Island golden king crab (WAG) | 4 years of the 4-year base period beginning on: (1) September 1, 1996 through August 31, 1997; (2) September 1, 1997 though August 31, 1998; (3) September 1, 1998 through August 31, 1999; and (4) September 1, 1999 through August 14, 2000.
Western Aleutian Islands red king crab (WAI) | Equivalent to the total legally processed crab in the Western Aleutian Islands golden (brown) king crab fishery during the qualifying years established for that fishery.
Western Bering Sea Tanner crab (WBT) | Equivalent to 50 percent of the total legally processed crab in the Bering Sea snow crab fishery during the qualifying years established for that fishery, and 50 percent of the total legally processed crab in the Bristol Bay red king crab fishery during the qualifying years established for that fishery.

[FR Doc. E6-8861 Filed 6-6-06; 8:45 am]

BILLING CODE 3510-22-S